DEPARTMENT OF TRANSPORTATION

National Highway Traffic Safety Administration

[Docket No. NHTSA 2006-24324; Notice 2]

American Honda Motor Company, Inc., Grant of Petition for Decision of Inconsequential Noncompliance

American Honda Motor Company, Inc. (Honda) has determined that certain vehicles that it produced in 2005 and 2006 do not comply with S3.1.4.1 of 49 CFR 571.102, Federal Motor Vehicle Safety Standard (FMVSS) No. 102, “Transmission shift position sequence, starter interlock, and transmission braking effect.” Pursuant to 49 U.S.C. 30118(d) and 30120(h), Honda has petitioned for a determination that this noncompliance is inconsequential to motor vehicle safety and has filed an appropriate report pursuant to 49 CFR part 573, “Defect and Noncompliance Reports.” Notice of receipt of a petition was published, with a 30-day comment period, on April 7, 2006, in the Federal Register (71 FR 17952). NHTSA received no comments.

Affected are a total of approximately 2,641 model year 2006 Honda Ridgeline vehicles. S3.1.4.1 of FMVSS No. 102 requires,

[I]f the transmission shift position sequence includes a park position, identification of shift positions, including the positions in relation to each other and the position selected, shall be displayed in view of the driver whenever any of the following conditions exist: (1) The ignition is in a position where the transmission can be shifted; or (b) The transmission is not in park.

Honda explains the noncompliance as follows:

* * * American Honda offered, as an optional part, through its dealers, a wiring harness as part of a trailer towing kit. The wiring harness included a circuit to provide for back-up lights, if present on a trailer, to illuminate when the transmission was shifted into reverse gear. The Ridgeline utilizes an electronic display in the instrument panel to indicate transmission gear position. When the wiring harness in question has been installed, and the ignition key is turned to the accessory position, the electronic display indicates not only the actual position of the selected gear, but also illuminates the reverse position indicator in the display, such that there are two indicator lights lighted at the same time, unless the reverse position is the gear selected, in which case only the reverse position indicator will be lighted.

Honda has corrected the problem that caused these errors so that they will not be repeated in future production.

Honda believes that the noncompliance is inconsequential to motor vehicle safety and that no corrective action is warranted. Honda states that neither the actual function of the transmission nor the transmission lockout will be affected. Honda states that there is no possibility of danger from the noncompliant display while the key is in the accessory position. Honda states:

The key cannot be removed, the vehicle cannot start, and the actual gear position would be illuminated, as well as the reverse position. There are two possible scenarios to consider.

In the first and most common scenario, if the key had been removed, upon initial insertion of the key, the vehicle would have had to be in “PARK,” and turning the key to the accessory position will illuminate both the “PARK” and “REVERSE” indications, but not allow the vehicle to be shifted from the “PARK” position. Then, when the key was turned to the “on” position, allowing the vehicle to be shifted from the “PARK” position, the gear position indicator would function properly.

In the second scenario, if the key has been left in the ignition while in a gear other than “PARK,” when the operator turns the key to the accessory position, the electronic display will indicate the correct gear, as well as reverse. This would be a highly unusual circumstance, and the vehicle would not start unless the key was turned to the “on” position, in which case the gear position indicator would function properly. Nor could the key be removed until the shift lever was placed in the “PARK” position. Even if this highly unlikely situation were to occur, movement of the shift lever would indicate the correct gear, as well as the illumination of the reverse gear. It would become readily apparent to the operator that the illumination of the reverse gear would be inappropriate and not indicative of the actual gear being engaged. Again, once the ignition is turned to the “ON” position, the gearshift indicator would function completely normally. At no time would the engine operate while in the “ACCESSORY” position.

NHTSA agrees with Honda that the noncompliance is inconsequential to motor vehicle safety. In the “accessory” position, which is when the noncompliant display appears, the key cannot be removed and the vehicle cannot start. When the key is turned to the “on” position, the gear position indication functions properly and is in compliance. The noncompliance does not affect the function of the transmission or the transmission lockout.

In consideration of the foregoing, NHTSA has decided that the petitioner has met its burden of persuasion that the noncompliance described is inconsequential to motor vehicle safety. Accordingly, Honda's petition is granted and the petitioner is exempted from the obligation of providing notification of, and a remedy for, the noncompliance.

(Authority: 49 U.S.C. 30118, 30120; delegations of authority at CFR 1.50 and 501.8)

Issued on: June 9, 2006.
Daniel C. Smith,
Associate Administrator for Enforcement.

[FR Doc. E6-9278 Filed 6-13-06; 8:45 am]

BILLING CODE 4910-59-P